DEPARTMENT OF LABOR

Employment and Training Administration

[TA-W-56,741; TA-W-56,741A; TA-W-56,741B; and TA-W-56,741C]

Maxtor Corporation, Milpitas, California, Longmont, CO, Shrewsbury, MA, And San Jose, CA; Notice of Termination of Investigation

Pursuant to Section 221 of the Trade Act of 1974, as amended, an investigation was initiated on March 11, 2005 in response to a petition filed by a company official on behalf of workers of Maxtor Corporation, Milpitas, California (TA-W-56,741), Maxtor Corporation, Longmont, Colorado (TA-W-56,741A), Maxtor Corporation, Shrewsbury, Massachusetts (TA-W-56,741B), and Maxtor Corporation, San Jose, California (TA-W-56,741C).

The petitioner has requested that the petition be withdrawn. Consequently, the investigation has been terminated.

Signed at Washington, DC, this 20th day of April, 2005.
Linda G. Poole,
Certifying Officer, Division of Trade Adjustment Assistance.

[FR Doc. E5-2117 Filed 5-2-05; 8:45 am]

BILLING CODE 4510-30-P